DEPARTMENT OF HEALTH AND HUMAN SERVICES

Health Resources and Services Administration

Cancellation of Previously Announced Grant Opportunities

AGENCY: Health Resources and Services Administration, HHS.

ACTION: Notice of Cancellation.

SUMMARY: The Health Resources and Services Administration (HRSA) announces the cancellation of the following grant opportunities that were initially published on Grants.gov Find, in the HRSA Preview, and on the HRSA Web site (http://www.hrsa.gov/grants/preview/).

DATES: Effective Date: March 31, 2006.

FOR FURTHER INFORMATION CONTACT: Gail Lipton, Director, Division of Grants Policy, Office of Federal Assistance Management, Telephone (301) 443-6509. (This is not a toll-free number.)

SUPPLEMENTARY INFORMATION: Based on funds made available through the final fiscal year (FY) 2006 appropriation and a redirection of priorities, HRSA hereby withdraws the following programs and announcements from FY 2006 competition:

HRSA-06-002 | Mental Health/Substance Abuse, Oral Health and Comprehensive Pharmacy Services in Section 330-funded Health Centers. Applications Due: January 13, 2006.
HRSA-06-004 | New Access Points. Applications Due: February 10, 2006.
HRSA-06-014 | Residency Training in Primary Care. Applications Due: February 17, 2006.
HRSA-06-015 | Academic Administrative Units in Primary Care. Applications Due: February 17, 2006.
HRSA-06-016 | Physician Assistant Training in Primary Care. Applications Due: February 17, 2006.
HRSA-06-017 | Residency Training in General and Pediatric Dentistry. Applications Due: February 17, 2006.
HRSA-06-018 | Pre-Doctoral Training in Primary Care. Applications Due: February 17, 2006.
HRSA-06-019 | Faculty Development in Primary Care. Applications Due: February 17, 2006.
HRSA-06-022 | Health Careers Opportunity Program. Applications Due: February 21, 2006.
HRSA-06-024 | Center for Health Workforce. Applications Due: August 1, 2006.
HRSA-06-025 | Quentin N. Burdick Program For Rural Interdisciplinary Training. Applications Due: January 13, 2006.
HRSA-06-029 | Geriatric Education Centers. Applications Due: February 1, 2006.
HRSA-06-031 | Allied Health Projects. Applications Due: January 13, 2006.
HRSA-06-036 | Pathways to Health Professions. Applications Due: October 3, 2005.
HRSA-06-052 | New Access Points in High Poverty Counties. Applications Due: March 15, 2006.
HRSA-06-053 | Planning Grants in High Poverty Counties. Applications Due: March 30, 2006.
HRSA-06-055 | Health Center Consortia. Applications Due: April 3, 2006.
HRSA-06-056 | Healthy Communities Access Program. Applications Due: February 2, 2006.
HRSA-06-057 | Health Center Controlled Networks (HCCN). Applications Due: February 17, 2006.
HRSA-06-058 | Operational Network Grants (OPN). Applications Due: March 1, 2006.
HRSA-06-068 | Trauma-EMS Systems Program. Applications Due: April 11, 2006.
HRSA-06-073 | State Planning Grants Program (SPGP). Applications Due: March 31, 2006.
HRSA-06-106 | Rural Emergency Medical Services Training and Assistance Cooperative Agreement. Applications Due: April 15, 2006.
HRSA-06-111 | Graduate Geropsychology Education Program. Applications Due: March 1, 2006.

These cancellations are effective immediately upon publication of this Federal Register notice, and the appropriate changes have already been made to Grants.gov Find and the HRSA Web site. HRSA will not accept any FY 2006 competitive applications for these funding opportunities, and any applications previously submitted will not be considered. Further information about HRSA programs will be provided both through the HRSA Web site at http://www.hrsa.gov/grants/preview and through http://www.grants.gov, the official E-Grants Web site where applicants can find and apply for Federal funding opportunities.

Dated: March 27, 2006.
Elizabeth M. Duke,
Administrator.

[FR Doc. E6-4690 Filed 3-30-06; 8:45 am]

BILLING CODE 4165-15-P